DEPARTMENT OF AGRICULTURE

Rural Housing Service

Rural Business-Cooperative Service

Rural Utilities Service

Farm Service Agency

Notice of Request for Extension of a Currently Approved Information Collection

AGENCIES: Rural Housing Service, Rural Business-Cooperative Service, Rural Utilities Service, Farm Service Agency, USDA.

ACTION: Proposed collection; comments requested.

SUMMARY: In accordance with the Paperwork Reduction Act of 1995, this notice announces the subject Agencies' intention to request an extension for a currently approved information collection in support of the program for 7 CFR, part 1951, subpart F, “Analyzing Credit Needs and Graduation of Borrowers.”

DATES: Comments on this notice must be received by June 12, 2000, to be assured of consideration.

FOR FURTHER INFORMATION CONTACT: Phillip Elder, Senior Loan Officer, USDA, FSA, Farm Loan Programs, Loan Servicing Division, 1400 Independence Ave. SW., Washington, DC 20250-0523, telephone (202) 690-4012. Electronic mail: phillip_elder@wdc.fsa.usda.gov.

SUPPLEMENTARY INFORMATION: Title: 7 CFR, Part 1951, Subpart F, “Analyzing Credit Needs and Graduation of Borrowers.

OMB Number: 0575-0093.

Expiration Date of Approval: June 30, 2000.

Type of Request: Extension of a currently approved information collection.

Abstract: Section 333 of the Consolidated Farm and Rural Development Act (Con Act) (7 U.S.C. 1983) and § 502 of the Housing Act of 1949 (42 U.S.C. 1472) require the Agencies to “graduate” their direct loan borrowers to other credit when they are able to do so. Graduation is required because Government loans are not meant to be extended beyond a borrower's need for subsidized rates or government credit. The borrower must refinance their direct Government loan when other credit becomes available at reasonable rates and terms. If other credit is not available the Agency will continue to review the borrower for possible graduation at periodic intervals. Also, § 333A(f) of the Con Act (7 U.S.C. 1983a (f)) requires the Agency to provide a financial prospectus to lenders who may be interested in providing credit to Farm Service Agency direct farm loan borrowers with an FSA guarantee. The information collected to carry out these statutory mandates is financial data such as amount of income, farm operating expenses, asset values, and liabilities. This information collection is submitted by the Agencies' borrowers to Agency offices and is used in the Agencies' efforts to graduate direct borrowers to private credit.

Estimate of Burden: Public reporting for this collection of information is estimated to average 3 hours per response.

Respondents: Individuals or households, businesses or other for profit and farms.

Estimated Number of Respondents: 17,031.

Estimated Number of Responses per Respondent: 1.47.

Estimated Number of Responses: 25,047.

Estimated Total Annual Burden on Respondents: 75,361 hours.

Copies of this information collection can be obtained from Barbara Williams, Regulations and Paperwork Management Branch, Support Services Division at (202) 692-0045.

Comments

Comments are invited on: (a) Whether the proposed collection of information is necessary for the proper performance of the functions of the subject Agencies, including whether the information will have practical utility; (b) the accuracy of the Agencies' estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to Barbara Williams, Regulations and Paperwork Management Branch, Support Services Division, U.S. Department of Agriculture, Rural Development, STOP 0742, 1400 Independence Ave. SW, Washington, DC 20250. All responses to this notice will be summarized and included in the request for OMB approval. All comments will also become a matter of public record.

Dated: April 3, 2000.
Jill Long Thompson,
Undersecretary for Rural Development.
August Schumacher, Jr.,
Undersecretary for Farm And Foreign Agricultural Services.

[FR Doc. 00-9174 Filed 4-12-00; 8:45 am]

BILLING CODE 3410-XV-U